FEDERAL MARITIME COMMISSION

[Docket No. 06-01]

Worldwide Relocations, Inc., All-in-One Shipping, Inc., Boston Logistics Corp., Around the World Shipping, Inc., Tradewind Consulting, Inc., Global Direct Shipping, Megan K. Karpick (a.k.a. Catherine Kaiser, Kathryn Kaiser, Catherine Kerpick, Megan Kaiser and Alexandria Hudson), Martin J. McKenzie, Patrick John Costadoni, Elizabeth F. Hudson, Sharon Fachler, and Oren Fachler, et al.—Possible Violations of Sections 8, 10 and 19 of the Shipping Act of 1984 and the Commission's Regulations at 46 CFR 515.3, 515.21 and 520.3; Notice of Order of Investigation and Hearing

Notice is given that on January 11, 2006 the Federal Maritime Commission issued an Order of Investigation and Hearing to determine whether nine apparently related household goods moving companies and their owners and/or primary corporate officers were operating unlawfully. Named in the order are: Moving Services, L.L.C.; Worldwide Relocations, Inc.; International Shipping Solutions, Inc.; Dolphin International Shipping, Inc.; All-in-One Shipping, Inc.; Boston Logistics Corp.; Around the World Shipping, Inc.; Tradewind Consulting, Inc.; Global Direct Shipping; Sharon Fachler; Oren Fachler; Lucy Norry; Patrick J. Costadoni; Steve Kuller; Megan K. Karpick (a.k.a. Catherine Kaiser, Kathryn Kaiser, Catherine Kerpick, Megan Kaiser and Alexandria Hudson); Barbara Deane (a.k.a. Barbara Fajardo); Baruch Karpick; Martin J. McKenzie; Joshua S. Morales; Elizabeth F. Hudson; Daniel E. Cuadrado (a.k.a. Daniel Edward); Ronald Eaden; and Robert Bachs (collectively “the Respondents”).

The Commission has received over 250 consumer complaints from shippers regarding the above individuals and companies alleging, among other things, that the companies: failed to deliver the cargo and refused to return pre-paid ocean freight; lost the cargo; charged the shipper for marine insurance which they never obtained; misled the shipper as to the whereabouts of cargo; charged the shipper an inflated rate and withheld cargo until that rate was paid; and failed to pay the common carrier. In many cases, the shipper was forced to pay another carrier or warehouse a second time in order to have the cargo released. In addition, none of the companies or individuals listed is licensed as OTIs by the Federal Maritime Commission, nor have they provided proof of financial responsibility, or published a tariff showing their rates.

This proceeding seeks to determine: (1) Whether Respondents violated sections 8, 10, and 19 of the Shipping Act of 1984 and the Commission's regulations at 46 CFR Parts 515 and 520 by operating as non-vessel-operating common carriers in the U.S. trades without obtaining licenses from the Commission, without providing proof of financial responsibility, without publishing an electronic tariff, and by failing to establish, observe, and enforce just and reasonable regulations and practices relating to or connected with receiving, handling, storing, or delivering property; (2) Whether, in the event one or more violations of sections 8, 10 and 19 of the Shipping Act of 1984 and 46 CFR Parts 515 and 520 are found, civil penalties should be assessed and, if so, the identity of the persons and/or corporations to whom the penalties should be assessed and the amount of the penalties to be assessed; (3) Whether, in the event violations are found, appropriate cease and desist orders should be issued.

The full text of this order may be viewed on the Commission's home page at http://www.fmc.gov or at the Office of the Secretary, Room 1046, 800 North Capitol Street, NW., Washington DC. Any person may file a petition for leave to intervene in accordance with 46 CFR 502.72.

Bryant L. VanBrakle,
Secretary.

[FR Doc. E6-786 Filed 1-23-06; 8:45 am]

BILLING CODE 6730-01-P